DEPARTMENT OF ENERGY

Federal Energy Regulatory Commission

[Docket No. CP02-56-000]

Southern Natural Gas Company; Notice of Application

January 7, 2002.

Take notice that on December 26, 2001, Southern Natural Gas Company (Southern), P.O. Box 2563, Birmingham, Alabama 35202-2563, filed an application pursuant to Section 7(b) of the Natural Gas Act (NGA) and Sections 157.7 and 157.14 of the Commission regulations for approval of Southern's abandonment of capacity by sale to SCG Pipeline, Inc. (SCG), all as more thoroughly described in the application on file with the Commission and open to public inspection. This filing may be viewed on the Web at http://www.ferc.gov using the “RIMS” link, select “Docket #” and follow the instructions (please call (202) 208-2222 for assistance).

Southern proposes to abandon by sale to SCG an undivided interest in two parallel 30-inch diameter pipelines owned and operated by Southern equal to 190,000 Mcf per day of capacity from the tailgate of the liquefied natural gas facility of Southern LNG, Inc., on Elba Island in Chatham County, Georgia (LNG Facility) to an interconnection to be constructed with the pipeline facilities of SCG at Southern's meter station near Port Wentworth in Chatham County, Georgia (Twin 30s). Southern states that this sale of capacity in the Twin 30s is being proposed in conjunction with an overall project by SCG to construct a pipeline system from the LNG Facility to Jasper County, South Carolina, pursuant to an application SCG filed concurrently with the Commission in Docket Nos. CP02-57-000, CP02-58-000, and CP02-59-000.

Southern states that the capacity of the Twin 30s is approximately 1,250,000 Mcf per day and greatly exceeds the maximum daily vaporization rate of the LNG Facility. Further, Southern states that this demonstrates that even after the sale of 190,000 Mcf per day of capacity to SCG, Southern will still retain more than enough capacity on the Twin 30s for Southern to take the entire deliverability from the LNG Facility that its downstream facilities are capable of accepting. Southern states that it will continue to operate the Twin 30s.

Southern states that it intends to sell the capacity to SCG for the percentage equivalent represented by the amount of capacity being sold multiplied by the depreciated book value of the Twin 30s as of the first day of the month in which the closing occurs. Southern states that the current capacity of the Twin 30s is 1,250,000 Mcf per day and 190,000 Mcf per day or 15.2 percent of that capacity is being sold, so that is the percentage that will be multiplied by the book value to determine the purchase price. Southern proposes to reduce its net plant by the amount of capital received from its sale of capacity in the Twin 30s and that the reduction will be reflected in Southern's next Section 4 rate case.

Any questions regarding the application should be directed to Patrick B. Pope, General Counsel, Southern Natural Gas Company, P.O. Box 2563, Birmingham, Alabama 35202-2563 at (205) 325-7126.

There are two ways to become involved in the Commission's review of this project. First, any person wishing to obtain legal status by becoming a party to the proceedings for this project should, on or before January 28, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

C.B. Spencer,
Acting Secretary.

[FR Doc. 02-835 Filed 1-11-02; 8:45 am]

BILLING CODE 6717-01-P